NUCLEAR REGULATORY COMMISSION

[Docket No. 50-317]

Calvert Cliffs Nuclear Power Plant; Environmental Assessment and Finding of No Significant Impact

The U.S. Nuclear Regulatory Commission (NRC) is considering issuance of an amendment to Facility Operating License No. DPR-53, issued to Calvert Cliffs Nuclear Power Plant, Inc. (the licensee), for operation of the Calvert Cliffs Nuclear Power Plant, Unit No. 1 (CCNPP1), located in Calvert County, MD. Therefore, as required by 10 CFR 51.21, the NRC is issuing this environmental assessment and finding of no significant impact.

Environmental Assessment

Identification of the Proposed Action

The proposed action would increase the maximum enrichment limit of fuel assemblies stored in the CCNPP1 spent fuel pool from 4.52 weight percent U ²³⁵ to 5.00 weight percent U ²³⁵. This would be accomplished by the licensee taking credit for soluble boron in maintaining acceptable margins of subcriticality. The proposed action only relates to Unit 1 because the storage racks in the Unit 2 spent fuel pool are of a different design, and require different controls. The Unit 2 spent fuel pool will remain at the current enrichment level of 4.52 weight percent U ²³⁵. The proposed action will result in modification of Technical Specification (TS) Section 4.3.1, “Criticality,” addition of a new Section 3.7.16, “Spent Fuel Pool Boron Concentration,” and addition of a license condition to require the development of a long-term coupon surveillance program for the Carborundum samples.

The proposed action is in accordance with the licensee's application dated May 1, 2003, as supplemented September 25, 2003, November 3, 2003, and February 25, 2004.

The Need for the Proposed Action

The proposed action would allow the number of fresh fuel assemblies per cycle to be decreased, through allowing the maximum enrichment for fresh fuel to be increased to 5.00 weight percent U ²³⁵ and allowing credit for soluble boron in the spent fuel pool. Through decreasing the number of fresh fuel assemblies per cycle, Independent Spent Fuel Storage Installation storage requirements will decrease, permanent Department of Energy storage requirements will decrease, and fuel cycle costs will decrease. Currently, TS Section 4.3.1, “Criticality”, limits the maximum enrichment for fuel assemblies to 4.52 weight percent U ²³⁵, and does not allow the licensee to take credit for soluble boron in the spent fuel pool. Thus, the proposed changes to the TSs were requested.

Environmental Impacts of the Proposed Action

The NRC has completed its safety evaluation of the proposed action and concludes that the storage and use of fuel enriched with U ²³⁵ up to 5.00 weight percent at CCNPP1, is acceptable. The staff's safety evaluation addresses safety considerations at the higher enrichment level, and the staff has concluded that the proposed action will not adversely effect plant safety.

The proposed action will not significantly increase the probability or consequences of accidents. Even though there will be a higher enrichment of U ²³⁵ in the fuel rods, accident consequences will not increase. According to the TSs, the spent fuel pool will contain enough soluble boron to ensure both subcriticality in the event of a dropped rod or accidental misloading, and significant negative reactivity in the event of a loss of normal spent fuel pool cooling.

No changes are being made in the types of effluents that may be released off site. Water and soluble boron will continue to be the materials used to ensure subcriticality in the spent fuel pool. There is no significant increase in the amount of any effluent released off site. Due to the higher enrichment of fuel, the boron concentration in the spent fuel pool will increase from the current value of 300 ppm to 350 ppm to safely store the higher enrichment fuel in the spent fuel pool. The addition of 50 ppm boron is approximately a 15-percent increase in boron concentration, but this is not a significant increase in the amount of radioactive waste. Boron will continue to be collected on the spent fuel pool filters as the water in the spent fuel pool is purified. The filters are replaced periodically and treated as low-level waste. There is no significant increase in occupational or public radiation exposure. Doses to workers will not increase from their current level due to the increased soluble boron concentration absorbing neutrons from the higher enrichment fuel rods in the spent fuel pool. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Impact Statement for CCNPP1 dated April 1973, and the Final Supplemental Environmental Impact Statement (NUREG-1437, Supplement 1) dated October 1999.

Agencies and Persons Consulted

On August 21, 2003, the staff consulted with the Maryland State official, Richard McLean of the Department of the Environment, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letters dated May 1, 2003, September 23, 2003, November 3, 2003, and February 25, 2004. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the NRC Web site, http://www.nrc.gov/reading-rm/adams.html. Persons who do not have access to ADAMS or who encounter problems in accessing the documents located in ADAMS should contact the NRC PDR Reference staff at 1-800-397-4209, or 301-415-4737, or send an e-mail to pdr@nrc.gov.

Dated at Rockville, Maryland, this 2nd day of April, 2004.
For the Nuclear Regulatory Commission.
Guy S. Vissing,
Senior Project Manager, Section I, Project Directorate I, Division of Licensing Project Management, Office of Nuclear Reactor Regulation.

[FR Doc. E4-781 Filed 4-7-04; 8:45 am]

BILLING CODE 7590-01-P